DEPARTMENT OF ENERGY

Federal Energy Regulatory Commission

[Docket No. EL01-88-021]

Notice of Compliance Filing: Louisiana Public Service Commission v. Entergy Services, Inc.

Take notice that on July 16, 2018, Entergy Services, Inc., agent on behalf of the Entergy Operating Companies,¹ submitted a bandwidth compliance filing pursuant to the Order on Initial Decision issued by the Federal Energy Regulatory Commission (Commission) ² and the Commission's letter order accepting a partial settlement agreement.³

¹ Entergy Arkansas, Inc., Entergy Louisiana, LLC, Entergy Mississippi, Inc., Entergy New Orleans, LLC, and Entergy Texas, Inc.

² Pub. Serv. Comm'n v. Entergy Services, Inc., 163 FERC ¶ 61,116 (2018).

³ La. Pub. Serv. Comm'n v. Entergy Services, Inc., 156 FERC ¶ 61,101 (2016).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 5 copies of the protest or intervention to the Federal Energy Regulatory Commission, 888 First Street NE, Washington, DC 20426. This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on August 6, 2018.

Dated: July 17, 2018.
Kimberly D. Bose,
Secretary.

[FR Doc. 2018-15698 Filed 7-20-18; 8:45 am]

BILLING CODE 6717-01-P